DEPARTMENT OF THE INTERIOR

Bureau of Land Management

[LLNVS00560 L58530000 EU0000 241A; N-93072, et al.; 14-08807; MO# 4500074460; TAS: 14X5232]

Notice of Realty Action; Competitive Sale of 29 Parcels of Public Land in Clark County, NV

AGENCY: Bureau of Land Management, Interior.

ACTION: Notice.

SUMMARY: The Bureau of Land Management (BLM) proposes to offer 29 parcels of public land totaling 597.59 acres in the Las Vegas Valley by competitive sale, at not less than the appraised fair market values (FMV). The BLM is proposing to offer the parcels for sale pursuant to the Southern Nevada Public Land Management Act of 1998 (SNPLMA), as amended. The sale will be subject to the applicable provisions of the Federal Land Policy and Management Act of 1976 (FLPMA) and BLM land sale regulations.

DATES: Interested parties may submit written comments regarding the proposed sale until March 23, 2015. The sale by sealed bid and oral public auction will be held on May 5, 2015, at the City of North Las Vegas, 2250 Las Vegas Boulevard North, Council Chambers, North Las Vegas, Nevada 89030 at 10 a.m., Pacific Time. The FMV for the parcels will be available 30 days prior to the sale. The BLM will accept sealed bids beginning

April 22, 2015. Sealed bids must be received by the BLM, Las Vegas Field Office (LVFO) no later than 4:30 p.m. Pacific Time, on April 30, 2015. The BLM will open sealed bids on the day of the sale just prior to oral bidding.

ADDRESSES: Mail written comments and submit sealed bids to the BLM LVFO, Assistant Field Manager, 4701 North Torrey Pines Drive, Las Vegas, NV 89130.

FOR FURTHER INFORMATION CONTACT: Manuela Johnson by email: manuela_johnson@blm.gov, or by telephone: 702-515-5224. For general information on previous BLM public land sales, go to: http://www.blm.gov/nv/st/en/snplma/Land_Auctions.html. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The BLM proposes to offer 29 parcels of public land in the southwest Las Vegas Valley. The subject public lands are legally described as:

Mount Diablo Meridian, Nevada

N-93072, 2.50 acres:

T. 22 S., R. 60 E.,

section 15, NW¼SE¼NE¼SE¼.

N-93074, 2.50 acres:

T. 22 S., R 60 E.,

section 15, NW¼NE¼SE¼SE¼.

N-93075, 17.50 acres:

T. 22 S., R. 60 E.,

section 17, N½NW¼NW¼SE¼, SW¼NW¼NW¼SE¼, E½NE¼NE¼SW¼, N½SE¼NE¼SW¼.

N-81949, 5.00 acres:

T. 22 S., R. 60 E.,

section 17, W½SW¼SE¼SW¼.

N-93077, 2.50 acres:

T. 22 S., R. 60 E.,

section 17, SW¼NE¼SE¼SW¼.

N-81950, 2.50 acres:

T. 22 S., R. 60 E.,

section 17, SW¼SE¼SW¼SW¼.

N-93078, 5.00 acres:

T. 22 S., R. 60 E.,

section 19, NW¼SE¼NE¼NE¼, NE¼SW¼NE¼NE¼.

N-93079, 10.00 acres:

T. 22 S., R. 60 E.,

section 21, SW¼SE¼NE¼NE¼, S½SW¼NE¼NE¼, SE¼SE¼NW¼NE¼.

N-93080, 1.25 acres:

T. 22 S., R. 61 E.,

section 30, W½SW¼NW¼SW¼NE¼.

N-93081, 3.75 acres:

T.22 S., R. 61 E.,

section 30, E½SE¼NE¼SW¼NE¼, NE¼SE¼SW¼NE¼.

N-84197, 12.50 acres:

T. 22 S., R. 61 E.,

section 30, SW¼NE¼SW¼NE¼, W½NW¼SE¼SW¼NE¼, SE¼NW¼SW¼NE¼, NE¼SW¼SW¼NE¼, E½SE¼SW¼SW¼NE¼, E½NW¼SW¼SW¼NE¼, E½SW¼SW¼SW¼NE¼.

N-91124, 247.59 acres:

T. 20 S., R. 62 E.,

section 14, lots 1 and 2, E½NW¼, N½SW¼.

N-93057, 5.00 acres:

T. 22 S., R. 63 E.,

section 9, W½SW¼SW¼NW¼.

N-93058, 10.00 acres:

T. 22 S., R. 63 E.,

section 9, E½SE¼SW¼NW¼, W½SW¼SE¼NW¼.

N-93059, 60 acres:

T. 22 S., R. 63 E.,

section 9, N½NW¼NE¼, N½NE¼NE¼, E½SW¼NW¼NE¼, SW¼NE¼NE¼, E½SE¼NE¼NE¼.

N-93060, 5.00 acres:

T. 22 S., R. 63 E.,

section 9, W½NE¼SW¼NE¼.

N-93061, 10.00 acres:

T. 22 S., R. 63 E.,

section 9, SW¼SW¼NE¼.

N-65967, 10.00 acres:

T. 22 S., R. 63 E.,

section 9, W½NE¼SE¼NE¼, W½SE¼SE¼NE¼.

N-93062, 10.00 acres:

T. 22 S., R. 63 E.,

section 9, E½SE¼SW¼NE¼, W½SW¼SE¼NE¼.

N-93063, 15.00 acres:

T. 22 S., R. 63 E.,

section 9, NE¼NE¼SE¼, E½SE¼NE¼SE¼.

N-93064, 50.00 acres:

T. 22 S., R. 63 E.,

section 9, NW¼SE¼SE¼, SW¼SW¼SE¼, E½SE¼SW¼SE¼, W½NW¼SW¼SE¼, W½SW¼NW¼SE¼, NW¼NW¼SE¼, W½SE¼NW¼SE¼.

N-93065, 35.00 acres:

T. 22 S., R. 63 E.,

section 16, NW¼NE¼NE¼, NE¼NW¼NE¼, E½NW¼NW¼NE¼, E½SW¼SW¼NE¼, S½NW¼SW¼NE¼.

N-93066, 5.00 acres:

T. 22 S., R. 63 E.,

section 16, E½SE¼NE¼NE¼.

N-93067, 15.00 acres:

T. 22 S., R. 63 E.,

section 16, W½NW¼SE¼NE¼, E½NE¼SW¼NE¼, E½SE¼SW¼NE¼.

N-93068, 5.00 acres:

T. 22 S., R. 63 E.,

section 16, E½SE¼SE¼NE¼.

N-93069, 5.00 acres:

T. 22 S., R. 63 E.,

section 16, E½NW¼NW¼SE¼.

N-93070, 5.00 acres:

T. 22 S., R. 63 E.,

section 16, E½NW¼NE¼SE¼.

N-93071, 15.00 acres:

T. 22 S., R. 63 E.,

section 16, E½NE¼SW¼SE¼, E½SE¼SW¼SE¼, E½SE¼NW¼SE¼.

N-80739, 25.00 acres:

T. 23 S., R. 61 E.,

section 10, NW¼SW¼SE¼, S½NE¼SW¼SE¼, N½SW¼SW¼SE¼, S½NE¼SE¼SW¼.

The areas described contain 597.59 acres.

A sales matrix is available on the BLM Web site at: http://www.blm.gov/snplma. The sales matrix provides information specific to each sale parcel such as legal description, physical location, encumbrances, acreage, and FMV. The FMV for each parcel is available in the sales matrix as soon as approved and no later than 30 days prior to the sale.

The sale parcel (N-91124) consists of split-estate lands. The parcel of approximately 247.59 acres overlies privately owned sand and gravel deposits patented out of Federal ownership pursuant to Private Law 96-67 signed on December 5, 1980, for the relief of two mining claimants. The patent provides for the private ownership and use of the sand and gravel deposits and such use of the surface that is reasonably required for mining. The northern portion of the sale parcel is near the southern boundary of Nellis Air Force Base near the Live Ordnance Loading Area. The existing explosion evacuation arcs extend onto the northern portion of the sale parcel.

This proposed competitive sale is in conformance with the BLM, Las Vegas Resource Management Plan and decision LD-1, approved by Record of Decision on October 5, 1998, and complies with Section 203 of FLPMA. The sale parcels were analyzed in the Las Vegas Valley Disposal Boundary Environmental Impact Statement and approved by Record of Decision on December 23, 2004. A parcel-specific Determination of National Environmental Policy Act Adequacy document numbered DOI-BLM-NV-S010-2014-0135-DNA was prepared in connection with this Notice of Realty Action.

Submit comments on this sale Notice to the address in the ADDRESSES section. Before including your address, phone number, email address, or other personal identifying information in your comment, you should be aware that your entire comment—including any personal identifying information—might be made publicly available at any time. While you can ask us in your comment to withhold your personal identifying information from public review, we cannot guarantee that we will be able to do so. The BLM will also publish this Notice once a week for three consecutive weeks in the Las Vegas Review-Journal.

Sale procedures: Registration for oral bidding will begin at 8 a.m. Pacific Time and will end at 10 a.m. Pacific Time at the City of North Las Vegas, 2250 Las Vegas Boulevard North, Council Chambers, North Las Vegas, Nevada 89030, on the day of the sale. There will be no prior registration before the sale date. To participate in the competitive sale, all registered bidders must submit a bid guarantee deposit in the amount of $10,000 by certified check, postal money order, bank draft, or cashier's check made payable to the Department of the Interior-Bureau of Land Management on the day of the sale or submit the bid guarantee deposit along with the sealed bids. The public sale auction will be through sealed and oral bids. Sealed bids will be opened and recorded on the day of the sale to determine the high bids among the qualified bids received. Sealed bids above the FMV will set the starting point for oral bidding on a parcel. Parcels that receive no qualified sealed bids will begin at the established FMV. Bidders who are participating and attending the oral auction on the date of the sale are not required to submit a sealed bid, but may choose to do so.

Sealed-bid envelopes must be clearly marked on the lower front left corner with the parcel number and name of the sale, for example: “N-XXXXX, 29-parcel SNPLMA Sale 2015.” Sealed bids must include an amount not less than 20 percent of the total amount bid and the $10,000 bid guarantee by certified check, postal money order, bank draft, or cashier's check made payable to the “Department of the Interior-Bureau of Land Management.” The bid guarantee and bid deposit may be combined into one form of deposit; the bidder must specify the amounts of the bid deposit and the bid guarantee. The BLM will not accept personal or company checks. The sealed-bid envelope must contain the 20 percent bid deposit, bid guarantee, and a completed and signed “Certificate of Eligibility” form stating the name, mailing address, and telephone number of the entity or person submitting the bid. Certificate of Eligibility and registration forms are available at the BLM, LVFO at the address listed in the ADDRESSES section and on the BLM Web site at: http://www.blm.gov/nv/st/en/snplma/Land_Auctions.html. Pursuant to 43 CFR 2711.3-1(c), if two or more sealed-bid envelopes containing valid bids of the same amount are received, oral bidding will start at the sealed-bid amount. If there are no oral bids on the parcel, the authorized officer will determine the winning bidder. Bids for less than the federally approved FMV will not be qualified. The highest qualifying bid for any parcel will be declared the high bid. The apparent high bidder must submit a deposit of not less than 20 percent of the successful bid delivered no later than 3:00 p.m. Pacific Time on the day of the sale and in the form of a certified check, postal money order, bank draft, or cashier's check made payable in U.S. dollars to the “Department of the Interior—Bureau of Land Management.” Funds must be delivered no later than 3:00 p.m. Pacific Time on the day of the sale to the BLM Collection Officers at the City of North Las Vegas, 2250 Las Vegas Boulevard North, Council Chambers, North Las Vegas, Nevada 89030. The BLM-LVFO will accept funds. The BLM will send the successful bidder(s) a high-bidder letter with detailed information for full payment.

All funds submitted with unsuccessful bids will be returned to the bidders or their authorized representative upon presentation of acceptable photo identification at the BLM LVFO or by certified mail. If the apparent high bidder so chooses, the bid guarantee may be applied towards the required deposit. Failure to submit the deposit following the close of the sale under 43 CFR 2711.3-1(d) will result in forfeiture of the bid guarantee. For bidders who offer to purchase more than one parcel, the BLM will retain the bid guarantee, and may cancel the sale of all the parcels to that bidder, if the bidder fails to submit the bid deposit on any single parcel following the sale. If an offer to purchase one parcel results in default, the BLM may retain the bid deposit and cancel the sale to that bidder. If a high bidder is unable to consummate the transaction for any reason, the second highest bid may be considered to purchase the parcel. If there are no acceptable bids, a parcel may remain available for sale at a future date in accordance with competitive sale procedures without further legal notice.

Federal law requires that bidders must be: (1) A citizen of the United States 18 years of age or older; (2) A corporation subject to the laws of any State or of the United States; (3) A State, State instrumentality, or political subdivision authorized to hold property; or (4) An entity legally capable of conveying and holding lands or interests therein under the laws of the State of Nevada.

Evidence of United States citizenship is a birth certificate, passport, or naturalization papers. Failure to submit the above requested documents to the BLM within 30 days from receipt of the high-bidder letter will result in cancellation of the sale and forfeiture of the bid deposit. The successful bidder is allowed 180 days from the date of the sale to submit the remainder of the full purchase price.

Publication of this Notice in the Federal Register segregates the subject lands from all forms of appropriation under the public land laws. Any subsequent application will not be accepted, will not be considered and filed, and will be returned to the applicant if the Notice segregates from the use applied for in the application. The segregative effect of this Notice terminates upon issuances of a patent or other document of conveyance to such lands, publication in the Federal Register of a termination of the segregative, or two years after the date of this publication, whichever occurs first. The segregation period may not exceed two years unless extended by the BLM Nevada State Director in accordance with 43 CFR 2711.1-2(d) prior to the termination date.

Terms and Conditions: All minerals for the sale parcels will be reserved to the United States. The patents, when issued, will contain a mineral reservation to the United States for all minerals.

The parcels are subject to limitations prescribed by law and regulation, and certain encumbrances in favor of third parties. Prior to patent issuance, a holder of any right-of-way (ROW) within the sale parcels will have the opportunity to amend the ROW for conversion to a new term, including perpetuity, if applicable, or conversion to an easement. The BLM will notify valid existing ROW holders of record of their ability to convert their compliant ROW to perpetual ROW or easement. In accordance with Federal regulations at 43 CFR 2807.15, once notified, each valid holder may apply for the conversion of their current authorization.

The following numbered terms and conditions will appear on the conveyance documents for the sale parcels:

1. All minerals deposits in the lands so patented, and to it, or persons authorized by it, the right to prospect for, mine, and remove such deposits from the same under applicable law and regulations to be established by the Secretary of the Interior are reserved to the United States, together with all necessary access and exit rights;

2. A right-of-way is reserved for ditches and canals constructed by authority of the United States under the Act of August 30, 1890 (43 U.S.C. 945);

3. The parcels are subject to valid existing rights;

4. The parcels are subject to reservations for road, public utilities and flood control purposes, both existing and proposed, in accordance with the local governing entities' transportation plans; and

5. An appropriate indemnification clause protecting the United States from claims arising out of the lessee's/patentee's use, occupancy, or occupations on the leased/patented lands.

Pursuant to the requirements established by Section 120(h) of the Comprehensive Environmental Response, Compensation and Liability Act, 42 U.S.C. 9620(h) (CERCLA), as amended, notice is hereby given that the lands have been examined and no evidence was found to indicate that any hazardous substances have been stored for one year or more, nor had any hazardous substances been disposed of or released on the subject property.

No warranty of any kind, express or implied, is given by the United States as to the title, whether or to what extent the land may be developed, its physical condition, future uses, or any other circumstance or condition. The conveyance of a parcel will not be on a contingency basis. However, to the extent required by law, the parcel is subject to the requirements of Section 120(h) of the CERCLA.

Unless the BLM authorized officer approved other satisfactory arrangements in advance, conveyance of title will be through the use of escrow. Designation of the escrow agent will be through mutual agreement between the BLM and the prospective patentee, and costs of escrow will be borne by the prospective patentee.

Request for escrow instructions must be received by the BLM, LVFO prior to 30 days before the prospective patentee's scheduled closing date. No exceptions will be made.

All name changes and supporting documentation must be received at the BLM, LVFO 30 days from the date on the high-bidder letter by 4:30 p.m. Pacific Time. There are no exceptions. To submit a name change, the apparent high bidder must submit the name change in writing on the Certificate of Eligibility form to the BLM, LVFO.

The remainder of the full bid price for the parcel must be received no later than 4:30 p.m. Pacific Time, within 180 days following the day of the sale. Payment must be submitted in the form of a certified check, postal money order, bank draft, cashier's check, or made available by electronic fund transfer made payable in U.S. dollars to the “Department of the Interior—Bureau of Land Management” to the BLM LVFO. The BLM will not accept personal or company checks.

Arrangements for electronic fund transfer to the BLM for payment of the balance due must be made a minimum of two weeks prior to the payment date. Failure to pay the full bid price prior to the expiration of the 180th day will disqualify the high bidder and cause the entire 20 percent bid deposit to be forfeited to the BLM. Forfeiture of the 20 percent bid deposit is in accordance with 43 CFR 2711.3-1(d). No exceptions will be made. The BLM cannot accept the remainder of the bid price after the 180th day of the sale date.

The BLM will not sign any documents related to 1031 Exchange transactions. The timing for completion of such an exchange is the bidder's responsibility. The BLM cannot be a party to any 1031 Exchange.

In accordance with 43 CFR 2711.3-1(f), within 30 days the BLM may accept or reject any or all offers to purchase, or withdraw any parcel of land or interest therein from sale if, in the opinion of a BLM authorized officer, consummation of the sale would be inconsistent with any law, or for other reasons as may be provided by applicable law or regulations. No contractual or other rights against the United States may accrue until the BLM officially accepts the offer to purchase and the full bid price is paid.

Upon publication of this Notice and until completion of this sale, the BLM is no longer accepting land use applications affecting the parcel identified for sale. However, land use applications may be considered after the sale if the parcel is not sold. The parcel may be subject to land use applications received prior to publication of this Notice if processing the application would have no adverse effect on the marketability of title, or the FMV of the parcel. Information concerning the sale, encumbrances of record, appraisals, reservations, procedures and conditions, CERCLA, and other environmental documents that may appear in the BLM public files for the proposed sale parcels are available for review during business hours, 7:30 a.m. to 4:30 p.m. Pacific Time, Monday through Friday, at the BLM, LVFO, except during Federal holidays.

In order to determine the FMV through appraisal, certain extraordinary assumptions and hypothetical conditions may have been made concerning the attributes and limitations of the lands and potential effects of local regulations and policies on potential future land uses. Through publication of this Notice, the BLM advises that these assumptions may not be endorsed or approved by units of local government.

It is the buyer's responsibility to be aware of all applicable Federal, State, and local government laws, regulations and policies that may affect the subject lands, including any required dedication of lands for public uses. It is also the buyer's responsibility to be aware of existing or prospective uses of nearby properties. When conveyed out of Federal ownership, the lands will be subject to any applicable laws, regulations, and policies of the applicable local government for proposed future uses. It is the responsibility of the buyer to be aware through due diligence of those laws, regulations, and policies, and to seek any required local approvals for future uses. Buyers should make themselves aware of any Federal or State law or regulation that may affect the future use of the property. Any land lacking access from a public road or highway will be conveyed as such, and future access acquisition will be the responsibility of the buyer. Any comments regarding the proposed sale will be reviewed by the BLM Nevada State Director or other authorized official of the Department of the Interior, who may sustain, vacate, or modify this realty action in response to such comments. In the absence of any comments, this realty action will become the final determination of the Department of the Interior.

Authority: 43 CFR 2711.1-2.

Catrina Williams,
Acting Assistant Field Manager, Division of Lands.

[FR Doc. 2015-02368 Filed 2-5-15; 8:45 am]

BILLING CODE 4310-HC-P